DEPARTMENT OF ENERGY

Federal Energy Regulatory Commission

[Project No. 420-069]

Ketchikan Public Utilities; Notice of Amendment of License and Soliciting Comments, Motions To Intervene, and Protests

January 23, 2009.

Take notice that the following application has been filed with the Commission and is available for public inspection:

a. Application Type: Amendment of License (Modify Project Operation).

b. Project No.: 420-069.

c. Date filed: November 17, 2008.

d. Applicant: Ketchikan Public Utilities.

e. Name of Project: Ketchikan Lakes Hydroelectric Project.

f. Location: The project is located on Ketchikan Creek and Granite Basin Creek, partially within the City of Ketchikan, in Ketchikan Gateway Borough, Alaska. The Project is located on federal lands within the Tongass National Forest.

g. Filed Pursuant to: Federal Power Act, 16 U.S.C. 791(a)-825(r) and 799 and 801.

h. Applicant Contact: Ms. Jennifer Soderstrom, Ketchikan Public Utilities, 2930 Tongass Avenue, Ketchikan, AK 99901, (907) 228-4733.

i. FERC Contact: Tom Papsidero at 202-502-6002, or e-mail thomas.papsidero@ferc.gov.

j. Deadline for filing comments and or motions: February 24, 2009.

All documents (original and eight copies) should be filed with: Kimberly D. Bose, Secretary, Federal Energy Regulatory Commission, 888 First Street, NE., Washington, DC 20426. Please include the project number (P-420-069) on any comments or motions filed. Comments, protests, and interventions may be filed electronically via the internet in lieu of paper. See, 18 CFR 385.2001(a)(1)(iii) and the instructions on the Commission's web site under the “e-Filing” link. The Commission strongly encourages e-filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Application: The licensee requests Commission approval to modify the project operation to (1) Reduce the minimum emergency flow release to Ketchikan Creek required under article 405; (2) change the way ramping rates are measured, as currently required under article 407, to define ramping rage limits in terms of plant discharge; and (3) consult with fish and wildlife agency representatives regarding the need for an annual project review meeting, currently required under article 413.

l. Location of Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210,.211,.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-1891 Filed 1-28-09; 8:45 am]

BILLING CODE 6717-01-P